DEPARTMENT OF AGRICULTURE

Submission for OMB Review; Comment Request

October 22, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Financial Status Report, FNS-778 and FNS-778A.

OMB Control Number: 0584-NEW.

Summary of Collection: Section 16(a) of the Food and Nutrition Act of 2008 (the Act) (7 U.S.C. 2011 et seq.) authorizes the Secretary to pay each State agency an amount equal to 50 percent of most allowable administrative costs involved in each State agency's operation of the Supplemental Nutrition Assistance Program (SNAP), formerly known as the Food Stamp Program. Since 1980, SNAP has used a program-specific FS-269 variant approval by the Office of Management and Budget that captures total SNAP administrative cost and subdivides it into 26 functional categories. The Food and Nutrition Service (FNS) is proposing to have form FNS-778 and 778A replace SF-269 for SNAP and be an exception to the new Federal Financial Report.

Need and Use of the Information: State agencies will need to submit forms FNS-778 to receive State administrative funding and FNS-778A to receive benefits and comply with applicable legislation. The FNS-778 will be completed by State agencies on a quarterly basis with a final report 90 days after the end of the Federal fiscal year. The form reports the administrative costs to operate SNAP at the State level and supports the claims for Federal funding. FNS-778A will be completed by State agencies on a quarterly basis with a final report 90 days after the end of the Federal fiscal year. The form requests the program cash-out benefits where FNS has approved the issuance of checks or electronic cash payments in lieu of electronic benefit transfer (EBT) benefits. If a respondent does not respond, the respondent is subject to withholding of administrative funds or termination from program participation. Without the information FNS could not track administrative and benefit costs data for program evaluation.

Description of Respondents: State, Local, or Tribal Government.

Number of Respondents: 53.

Frequency of Responses: Reporting: Quarterly.

Total Burden Hours: 4,646.

Ruth Brown,
Departmental Information Collection Clearance Officer.

[FR Doc. E9-25824 Filed 10-26-09; 8:45 am]

BILLING CODE 3410-30-P